DEPARTMENT OF COMMERCE

International Trade Administration

[C-533-844]

Certain Lined Paper Products From India: Preliminary Results of Countervailing Duty Administrative Review; Calendar Year 2014

AGENCY: Enforcement and Compliance, International Trade Administration, Department of Commerce.

SUMMARY: The Department of Commerce (the Department) is conducting an administrative review of the countervailing duty (CVD) order on certain lined paper products from India. The period of review (POR) is January 1, 2014, through December 31, 2014, and the review covers one producer/exporter of the subject merchandise, Goldenpalm Manufacturers PVT Ltd. (Goldenpalm). We preliminarily determine that Goldenpalm received countervailable subsidies during the POR.

DATES: Effective October 11, 2016.

FOR FURTHER INFORMATION CONTACT: John Conniff, AD/CVD Operations, Office III, Enforcement and Compliance, International Trade Administration, U.S. Department of Commerce, 14th Street and Constitution Avenue NW., Washington, DC 20230; telephone (202) 482-1009.

SUPPLEMENTARY INFORMATION:

Scope of the Order

The product covered by this administrative review is certain lined paper products from India. For a full description of the scope of this order see the Preliminary Decision Memorandum.¹

¹ See Decision Memorandum for Preliminary Results for the Countervailing Duty Administrative Review of Certain Lined Paper Products from India, from Christian Marsh, Deputy Assistant Secretary for Antidumping and Countervailing Duty Operations to Paul Piquado, Assistant Secretary for Enforcement and Compliance, dated concurrently with, and hereby adopted by, this notice (Preliminary Decision Memorandum).

Methodology

The Department is conducting this CVD administrative review in accordance with section 751(a)(1)(A) of the Tariff Act of 1930, as amended (the Act). For each of the subsidy programs found countervailable, we preliminarily determine that there is a subsidy (i.e., a financial contribution by an “authority” that gives rise to a benefit to the recipient) and that the subsidy is specific.² For a full description of the methodology underlying our preliminary conclusions, see the Preliminary Decision Memorandum.

² See sections 771(5)(B) and (D) of the Act regarding financial contribution; section 771(5)(E) of the Act regarding benefit; and section 771(5A) of the Act regarding specificity.

The Preliminary Decision Memorandum is a public document and is on file electronically via Enforcement and Compliance's Antidumping and Countervailing Duty Centralized Electronic Service System (ACCESS). ACCESS is available to registered users at https://access.trade.gov, and is available to all parties in the Central Records Unit, Room B8024 of the main Department of Commerce building. In addition, a complete version of the Preliminary Decision Memorandum can be accessed directly at http://enforcement.trade.gov/frn/. The signed Preliminary Decision Memorandum and the electronic version of the Preliminary Decision Memorandum are identical in content. A list of topics discussed in the Preliminary Decision Memorandum is included as Appendix I to this notice.

Preliminary Results of Review

The Department preliminarily determines that the following net subsidy rate exists for the period January 1, 2014, through December 31, 2014:

Manufacturer/exporter | Net subsidy rate
Goldenpalm Manufacturers PVT Ltd | 0.92 percent ad valorem.

Disclosure and Public Comment

The Department will disclose to parties to this proceeding the calculations performed in connection with these preliminary results within five days of the date of publication of this notice.³ Pursuant to 19 CFR 351.309(c)(1)(ii), the Department will notify interested parties of the due date to submit case briefs.⁴ Rebuttal briefs may be filed no later than five days after the deadline for filing case briefs, and must be limited to issues raised in the case briefs.⁵ Parties who submit case or rebuttal briefs are requested to submit with the argument: (1) A statement of the issue; (2) a brief summary of the argument; and (3) a table of authorities.⁶ Case and rebuttal briefs should be filed electronically using ACCESS.⁷

³ See 19 CFR 351.224(b).

⁴ Because the Department requires additional time to examine Goldenpalm's use of duty drawback programs during the POR, which will require post-preliminary results analysis, we will announce to parties at a later date the case brief deadlines. See the Preliminary Decision Memorandum at 9 for a discussion of the programs that require further analysis.

⁵ See 19 CFR 351.309(d).

⁶ See 19 CFR 351.309(c)(2) and (d)(2).

⁷ See 19 CFR 351.303.

Pursuant to 19 CFR 351.310(c), interested parties who wish to request a hearing must do so within 30 days of publication of these preliminary results by submitting a written request to the Assistant Secretary for Enforcement and Compliance, U.S. Department of Commerce, filed electronically using ACCESS. Requests should contain the party's name, address, and telephone number; the number of participants; and a list of the issues to be discussed. If a request for a hearing is made, we will inform parties of the scheduled date for the hearing which will be held at the U.S. Department of Commerce, 1401 Constitution Avenue NW., Washington, DC 20230, at a time and location to be determined. Parties should confirm by telephone the date, time, and location of the hearing two days before the scheduled date.

Unless the deadline is extended pursuant to section 751(a)(3)(A) of the Act, the Department will issue the final results of this administrative review, including the results of its analysis of issues raised in any written briefs, within 120 days after the date of publication of these preliminary results.

Assessment Rates

Upon issuance of the final results, the Department shall determine, and U.S. Customs and Border Protection (CBP) shall assess, countervailing duties on all appropriate entries covered by this review. We intend to issue instructions to CBP 15 days after publication of the final results of review.

Cash Deposit Instructions

Pursuant to section 751(a)(2)(C) of the Act, the Department also intends to instruct CBP to collect cash deposits of estimated countervailing duties, in the amount shown above, for the company shown above, on shipments of subject merchandise entered, or withdrawn from warehouse, for consumption on or after the date of publication of the final results of this review. For all non-reviewed firms, we will instruct CBP to collect cash deposits of estimated countervailing duties at the most recent company-specific or all-others rate applicable to the company, as appropriate. These cash deposit requirements, when imposed, shall remain in effect until further notice.

Notification to Interested Parties

These preliminary results of review are issued and published in accordance with sections 751(a)(1) and 777(i)(1) of the Act and 19 CFR 351.213 and 351.221(b)(4).

Dated: October 4, 2016.
Ronald K. Lorentzen,
Acting Assistant Secretary for Enforcement and Compliance.

Appendix I—List of Topics in the Preliminary Decision Memorandum

Summary

Background

Scope of the Order

Subsidies Valuation

Allocation Period

Cross-Ownership

Denominator

Benchmark Interest Rates

Analysis of Programs

Program Preliminarily Determined To Be Countervailable

Export Promotion Capital Goods Scheme (EPCGS)

Programs Requiring Additional Information

Duty Drawback and Annex 45

Program Preliminarily Determined To Be Not Countervailable

Central Value Added Tax (CENVAT) Reimbursements

Programs Preliminarily Determined To Be Not Used During the POR

Recommendation

[FR Doc. 2016-24486 Filed 10-7-16; 8:45 am]

BILLING CODE 3510-DS-P